DEPARTMENT OF DEFENSE

GENERAL SERVICES ADMINISTRATION

NATIONAL AERONAUTICS AND SPACE ADMINISTRATION

48 CFR Chapter 1

[Docket No. FAR-2024-0051, Sequence No. 5]

Federal Acquisition Regulation; Federal Acquisition Circular 2024-07; Small Entity Compliance Guide

AGENCY: Department of Defense (DoD), General Services Administration (GSA), and National Aeronautics and Space Administration (NASA).

ACTION: Small Entity Compliance Guide (SECG).

SUMMARY: This document is issued under the joint authority of DoD, GSA, and NASA. This Small Entity Compliance Guide has been prepared in accordance with section 212 of the Small Business Regulatory Enforcement Fairness Act of 1996. It consists of a summary of the rules appearing in Federal Acquisition Circular (FAC) 2024-07, which amends the Federal Acquisition Regulation (FAR). Interested parties may obtain further information regarding these rules by referring to FAC 2024-07, which precedes this document.

DATES: August 29, 2024.

ADDRESSES: The FAC, including the SECG, is available at https://www.regulations.gov.

FOR FURTHER INFORMATION CONTACT: For clarification of content, contact the analyst whose name appears in the table below. Please cite FAC 2024-07 and the FAR Case number. For information pertaining to status or publication schedules, contact the Regulatory Secretariat Division at 202-501-4755 or GSARegSec@gsa.gov. An asterisk (*) next to a rule indicates that a regulatory flexibility analysis has been prepared.

Rules Listed in FAC 2024-07
Item | Subject | FAR case | Analyst
I | Reference to Penalty Threshold | 2023-005 | Jones.
II | Technical Amendments

SUPPLEMENTARY INFORMATION: Summaries for each FAR rule follow. For the actual revisions and/or amendments made by these FAR rules, refer to the specific item numbers and subjects set forth in the documents following these item summaries. FAC 2024-07 amends the FAR as follows:

Item I—Reference to Penalty Threshold (FAR Case 2023-005)

This final rule amends the FAR to align the penalties language in the FAR lobbying provision at FAR 52.203-11 with the equivalent penalties language in the FAR lobbying clause at FAR 52.203-12. FAR 52.203-11(e) cites to the underlying authority at 31 U.S.C. 1352 and specifies that an imposition of a civil penalty does not prevent the Government from seeking any other remedy that may be applicable.

Item II—Technical Amendments

Administrative changes are made at FAR 4.1202, 19.102, and 19.309.

William F. Clark,
Director, Office of Government-Wide Acquisition Policy, Office of Acquisition Policy, Office of Government-Wide Policy.

[FR Doc. 2024-19175 Filed 8-28-24; 8:45 am]

BILLING CODE 6820-EP-P